DEPARTMENT OF HEALTH AND HUMAN SERVICES

Centers for Disease Control and Prevention

[60Day-13-13JQ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Health Professional Application for Training (HPAT)—New—National Center for HIV/AIDS, Viral Hepatitis, STD, and TB Prevention (NCHHSTP), Centers for Disease Control and Prevention (CDC).

Background and Brief Description

The CDC is requesting the Office of Management and Budget (OMB) grant a three year approval to collect data that comprises the Health Professional Application for Training (HPAT).This instrument was previously approved under OMB #0920-0017, expires 3/31/2013. However CDC is requesting to use the form in NCHHSTP and there will be no duplication of information collection. It will serve as the official training application form used for training activities conducted by the Sexually Transmitted Disease (STD)/Human immunodeficiency virus (HIV) Prevention Training Centers' (PTCs) grantees and the HIV Capacity Building Assistance (CBAs) grantees funded by the (CDC).

The PTCs and CBAs are funded by CDC/Division of STD Prevention (DSTDP) and Division of HIV/AIDS Prevention (DHAP) to provide capacity-building that includes information, training, technical assistance and technology transfer.

The PTCs and CBAs offer classroom and experiential training, web-based training, clinical consultation, and capacity building assistance to maintain and enhance the capacity of health care professionals to control and prevent STDs and HIV. The HPATHPAT is used to monitor and evaluate performance of grantees that offer STD and HIV prevention training, training assistance, and capacity building assistance to physicians, nurses, disease intervention specialists, health educators, etc.

The 7,400 respondents represent an average of the number of health professionals trained by the CBA and PTC grantees during the years 2010 and 2011. The data collection is necessary to assess and evaluate the performance of the grantees in delivering training and to standardize training registration processes across the two training programs; the PTC program and the CBA provider program, and multiple grantees funded by each program. The HPAT allows CDC grantees to use a single instrument when partnering with other Health and Human Services (HHS) funded training programs.

The HPAT also collects information from the training participants regarding their: (1) Occupations, professions, and functional roles; (2) principal employment settings; (3) location of their work settings; and (4) programmatic and population foci of their work. This data collection provides CDC with information to determine whether the training grantees are reaching their target audiences in terms of provider type, the types of organizations in which participants work, the focus of their work and the population groups and geographic areas served; the data collection is also used to triage and assign CBA provider requests.

There are no costs to respondents other than their time.

Estimates of Annualized Burden
Type of respondent | Form name | Number of respondents | Number responses per respondent | Average burden per response (in hours) | Total burden hours
Healthcare Professionals | Health Professional Application for Training (HPAT) | 7,400 | 1 | 5/60 | 617
Total |  | 7,400 |  | 5/60 | 617

Dated: March 15, 2013.
Ron A. Otten,
Director, Office of Scientific Integrity (OSI), Office of the Associate Director for Science (OADS), Office of the Director, Centers for Disease Control and Prevention.

[FR Doc. 2013-06497 Filed 3-20-13; 8:45 am]

BILLING CODE 4163-18-P